Proclamation 7802 of July 16, 2004

Captive Nations Week, 2004

By the President of the United States of America

A Proclamation

Each year during Captive Nations Week, the United States reaffirms our commitment to building a world where human rights, democracy, and freedom are respected and protected by the rule of law. As Americans, we believe the nonnegotiable demands of human dignity must be upheld without regard to race, gender, creed, or nationality. We stand in solidarity with those living under repressive regimes who seek democracy and peaceful changes in their homelands.

Throughout our Nation's history, our brave men and women in uniform have fought for the freedom of those suffering under authoritarian governments. From Nazi Germany to Bosnia, and Afghanistan to Iraq, American service members have fought to remove brutal leaders. The American people and their generous contributions have helped to rebuild traumatized nations and given the oppressed hope for the future. More than a year ago, American service members and our coalition partners freed the Iraqi people from a dictatorship that routinely tortured and executed innocent civilians. Since then, Americans have helped the Iraqi people establish institutions for the protection of human rights, based on democratic principles, to ensure that freedom will endure in the new Iraq.

Earlier this summer, as our Nation paid respect to President Ronald Reagan, we recognized his contributions to ending the Cold War and advancing freedom around the world. In his first Inaugural Address, President Reagan said: “Above all, we must realize that no arsenal or no weapon in the arsenals of the world is so formidable as the will and moral courage of free men and women. It is a weapon our adversaries in today's world do not have. It is a weapon that we as Americans do have.” These words carry forward today as we continue to push for democratic freedoms and human rights around the world.

The Congress, by Joint Resolution approved July 17, 1959 (73 Stat. 212), has authorized and requested the President to issue a proclamation designating the third week in July of each year as “Captive Nations Week.”

NOW, THEREFORE, I, GEORGE W. BUSH, President of the United States of America, do hereby proclaim July 18 through July 24, 2004, as Captive Nations Week. I call upon the people of the United States to observe this week with appropriate ceremonies and activities and to reaffirm their commitment to all those seeking liberty, justice, and self-determination.

IN WITNESS WHEREOF, I have hereunto set my hand this sixteenth day of July, in the year of our Lord two thousand four, and of the Independence of the United States of America the two hundred and twenty-ninth.

B

[FR Doc. 04-16757

Filed 7-20-04; 8:45 am]

Billing code 3195-01-P